DEPARTMENT OF COMMERCE

National Oceanic and Atmospheric Administration

Evaluation of State Coastal Management Programs and National Estuarine Research Reserves

AGENCY: Office of Ocean and Coastal Resource Management National Ocean Service, National Oceanic and Atmospheric Administration (NOAA), DOC.

ACTION: Notice of availability of final evaluation findings.

SUMMARY: Notice is hereby given of the availability of the final evaluation findings for the Wisconsin, Oregon and Guam Coastal Management Programs, and the Hudson River (New York), Ace Basin (South Carolina), South Slough (Oregon), Wells (Maine), and Weeks Bay (Alabama) National Estuarine Research Reserves (NERRs). Sections 312 and 315 of the Coastal Zone Management Act of 1972 (CZMA), as amended, require a continuing review of the performance of coastal states with respect to approval of coastal management programs, and the operation and management of NERRs.

The states of Wisconsin and Oregon, and the Territory of Guam were found to be implementing and enforcing their federally approved coastal management programs, addressing the national coastal management objectives identified in CZMA Section 303(2)(A)-(K), and adhering to the programmatic terms of their financial assistance awards.

Hudson River, Ace Basin, South Slough, Wells, and Weeks Bay NERRs were found to be adhering to programmatic requirements of the NERR System. Copies of these final evaluation findings may be obtained upon written request from: Margo E. Jackson, Deputy Director, Office of Ocean and Coastal Resource Management, NOS/NOAA, 1305 East-West Highway, 10th Floor, Silver Spring, Maryland 20910, or Margo.E.Jackson@noaa.gov, (301) 713-3155 Extension 114.

Federal Domestic Assistance Catalog 11.419; Coastal Zone Management Program Administration.

Capt. Ted Lillestolen,
Deputy Assistant Administrator for Ocean Services and Coastal Zone Management.

[FR Doc. 00-6028 Filed 3-10-00; 8:45 am]

BILLING CODE 3510-08-M